FEDERAL COMMUNICATIONS COMMISSION

47 CFR Part 73

[MB Docket No. 11-206; RM-11634; DA 12-980]

Radio Broadcasting Services; Pike Road, AL

AGENCY: Federal Communications Commission.

ACTION: Proposal rule; dismissal.

SUMMARY: The Audio Division dismisses the petition for rulemaking filed by Alatron Corporation, Inc., proposing the allotment of Channel 228A at Pike Road, Alabama, as the community's second local service, and the associated new FM application, File No. 20110504ACT. No comments or counterproposals were received by any parties. Petitioner did not file comments expressing a continuing interest in the proposed Pike Road allotment. It is the Commission's policy to refrain from making an allotment to a community absent an expression of interest. We will not allot Channel 228A at Pike Road, Alabama.

ADDRESSES: Secretary, Federal Communications Commission, 445 12th Street SW., Washington, DC 20554.

FOR FURTHER INFORMATION CONTACT: Rolanda F. Smith, Media Bureau, (202) 418-2700.

SUPPLEMENTARY INFORMATION: This is a synopsis of the Commission's Report and Order, MB Docket No. 11-206, adopted June 21, 2012, and released June 22, 2012. The full text of this Commission decision is available for inspection and copying during normal business hours in the FCC's Reference Information Center at Portals II, CY-A257, 445 12th Street SW., Washington, DC 20554. This document may also be purchased from the Commission's duplicating contractors, Best Copy and Printing, Inc., 445 12th Street SW., Room CY-B402, Washington, DC 20554, telephone 1-800-378-3160 or via email www.BCPIWEB.com. This document does not contain proposed information collection requirements subject to the Paperwork Reduction Act of 1995, Public Law 104-13. This document is not subject to the Congressional Review Act. (The Commission is not required to submit a copy of this Report and Order to Government Accountability Office, pursuant to the Congressional Review Act, see 5 U.S.C. 801(a)(1)(A) since the proposed petition for rule making is dismissed).

Federal Communications Commission.
Nazifa Sawez,
Assistant Chief, Audio Division, Media Bureau.

[FR Doc. 2012-15990 Filed 6-28-12; 8:45 am]

BILLING CODE 6712-01-P